Proclamation 9417 of April 1, 2016

World Autism Awareness Day, 2016

By the President of the United States of America

A Proclamation

Every person deserves the chance to reach for their highest hopes and fulfill their greatest potential. On World Autism Awareness Day, we reaffirm our dedication to ensuring that belief is a reality for all those who live on the autism spectrum—including 1 in 68 children. And we uphold our obligation to help make sure every man, woman, and child, regardless of ability or background, is accepted for who they are and able to lead a life free from discrimination and filled with opportunity.

From home to school and in businesses and communities around the world, people living with autism spectrum disorder contribute in immeasurable ways to our society. They remind us each day that every person is born with unique talents and should be treated with respect, play an active role in planning for their futures, and feel empowered to fully participate in and contribute to their communities. When those with autism have access to equal opportunities, we all do better, and that begins with making sure our country lives up to its commitment to ensure all things are possible for all people.

Individuals with autism are just as deserving of the peace of mind that comes with having quality, affordable health insurance as anyone else. The Affordable Care Act helps ensure no person is prevented from obtaining health coverage simply because they live with a preexisting condition like autism, and it requires most plans to cover recommended preventive services—including critical screenings that test for autism in children. My Administration is dedicated to ensuring educational opportunities for autistic students are worthy of their extraordinary potential and to providing Americans with autism the chance to earn good jobs and hone their skills and talents. We are working to break down barriers to competitive, integrated employment for people with disabilities, including people with autism. We are also promoting inclusivity for kids with autism in high-quality, early childhood education programs. In 2014, I signed the Autism CARES Act, which supports autism-related research and helps us to better understand the particular challenges faced by students and young adults living on the autism spectrum. And this month marks 3 years since my Administration launched the BRAIN Initiative—a collaborative effort by Federal agencies, philanthropies, universities, foundations, and others in the medical and scientific communities that aims to accelerate our work to solve some of the most intricate mysteries of human brain function and reveal new insights into conditions like autism. In my most recent budget proposal, I was proud to support increased funding for this important initiative.

Americans with autism play an important role in our national story, and in their daily lives they embody the belief at the heart of our founding: that in America, with hard work and equal access, all people can realize their aspirations. Today, and every day, let us reach for a future in which no person living on the autism spectrum is limited by anything but the size of their dreams—one in which all people have the opportunity to live a life filled with a sense of identity, purpose, and self-determination.

NOW, THEREFORE, I, BARACK OBAMA, President of the United States of America, by virtue of the authority vested in me by the Constitution and the laws of the United States, do hereby proclaim April 2, 2016, as World Autism Awareness Day. I encourage all Americans to learn more about autism and what they can do to support individuals on the autism spectrum and their families, and to help shape a world in which all people, including those with autism, are accepted for who they are.

IN WITNESS WHEREOF, I have hereunto set my hand this first day of April, in the year of our Lord two thousand sixteen, and of the Independence of the United States of America the two hundred and fortieth.

[FR Doc. 2016-08083

Filed 4-5-16; 11:15 am]

Billing code 3295-F6-P